DEPARTMENT OF TRANSPORTATION

Federal Transit Administration

Announcement of Project Selections for FY 2008 Clean Fuels Grant Program Discretionary Funds

AGENCY: Federal Transit Administration, DOT.

ACTION: Notice.

SUMMARY: The U.S. Department of Transportation (DOT) Federal Transit Administration (FTA) announces the discretionary selection of projects that will be funded using the unallocated Fiscal Year (FY) 2008 Clean Fuels Grant program funds.

FOR FURTHER INFORMATION CONTACT: The appropriate FTA Regional Administrator for grant-specific issues (see Appendix A); or Kimberly Sledge, Office of Program Management, 202-366-2053, for general information about the Clean Fuels Grant program.

SUPPLEMENTARY INFORMATION:

Clean Fuels Grant Program

A total of $28,753,000 million was available for discretionary allocation under the Clean Fuels Grant program in FY 2008. FTA published a notice of funding availability (NOFA) on May 22, 2008, inviting proposals for funding under the program. The proposals that were submitted addressed a number of FTA priorities under the program, such as: Replacement of vehicles that had met their useful life, fleet expansion to improve service, and construction of clean fuels related facilities to support alternative fuel vehicles. FTA received proposals totaling over $350 million in response to the NOFA.

In its evaluation of proposals, FTA considered the criteria specified in the NOFA as well as the productivity and efficiency of transit systems which applied for funding. FTA recognizes that there is an on-going need for critical investment in clean fuel vehicles and the facilities to support new technologies. FTA is awarding facility projects a considerable portion of the amount requested because grantees often do not receive enough funds to complete a facility project in one award. Projects selected for funding are shown in Table 1, which accompanies this announcement. The funding announced in this notice will be available for obligation until September 30, 2010.

James S. Simpson,
Administrator.

Appendix A—FTA Regional Offices

Region I—Massachusetts, Rhode Island, Connecticut, New Hampshire, Vermont and Maine

Richard H. Doyle, FTA Regional Administrator, Volpe National Transportation Systems Center, Kendall Square, 55 Broadway, Suite 920, Cambridge, MA 02142-1093, (617) 494-2055.

Region II—New York and New Jersey

Brigid Hynes-Cherin, FTA Regional Administrator, One Bowling Green, Room 429, New York, NY 10004-1415, (212) 668-2170.

Region III—Pennsylvania, Maryland, Virginia, West Virginia, Delaware and Washington, DC

Letitia Thompson, FTA Regional Administrator, 1760 Market Street, Suite 500, Philadelphia, PA 19103-4124, (215) 656-7100.

Region IV—Georgia, North Carolina, South Carolina, Florida, Mississippi, Tennessee, Kentucky, Alabama, Puerto Rico and the Virgin Islands

Yvette G. Taylor, FTA Regional Administrator, 230 Peachtree St., NW., Suite 800, Atlanta, GA 30303, (404) 865-5600.

Region V—Illinois, Indiana, Ohio, Wisconsin, Minnesota and Michigan

Marisol R. Simon, FTA Regional Administrator, 200 West Adams Street, Suite 320, Chicago, IL 60606-5232, (312) 353-2789.

Region VI—Texas, New Mexico, Louisiana, Arkansas and Oklahoma

Robert C. Patrick, FTA Regional Administrator, 819 Taylor Street, Room 8A36, Ft. Worth, TX 76102, (817) 978-0550.

Region VII—Iowa, Nebraska, Kansas and Missouri

Mokhtee Ahmad, FTA Regional Administrator, 901 Locust Street, Suite 404, Kansas City, MO 64106, (816) 329-3920.

Region VIII—Colorado, North Dakota, South Dakota, Montana, Wyoming and Utah

Terry Rosapep, FTA Regional Administrator, 12300 West Dakota Avenue, Suite 310, Lakewood, CO 80228-2583, (720) 963-3300.

Region IX—California, Arizona, Nevada, Hawaii, American Samoa, Guam and the Northern Mariana Islands

Leslie T. Rogers, FTA Regional Administrator, 201 Mission Street, Suite 1650, San Francisco, CA 94105-1831, (415) 744-3133.

Region X—Washington, Oregon, Idaho, Alaska

Richard Krochalis, FTA Regional Administrator, Jackson Federal Building, 915 Second Avenue, Suite 3142, Seattle, WA 98174-1002, (206) 220-7954.

[FR Doc. E8-21074 Filed 9-12-08; 8:45 am]

BILLING CODE 4910-57-P